DEPARTMENT OF TRANSPORTATION

Federal Aviation Administration

14 CFR Part 71

User Input to the Aviation Weather Technology Transfer (AWTT) Board

AGENCY: Federal Aviation Administration (FAA), Department of Transportation, (DOT).

ACTION: Notice of public meeting.

SUMMARY: The FAA will hold an informal public meeting to seek aviation weather user input on icing products. Details: July 13, 2005; Northrop Grumman, Conference Room A, 475 School Street, SW., Washington, DC 20024; 9 a.m. to 5 p.m. The objective of this meeting is to provide an opportunity for interested Government and commercial sector representatives who use government-provided aviation weather information in operational decision-making to provide input on FAA's plans for implementing new icing weather products.

DATES: The meeting will be held at Northrop Grumman, 475 School Street, SW., Washington, DC 20024; Times: 9 a.m. to 5 p.m. on July 13, 2005.

FOR FURTHER INFORMATION CONTACT: Debi Bacon, Air Traffic Organization, Operations Planning, Weather Policy and Standards, Federal Aviation Administration, 800 Independence Ave., SW., Washington, DC 20591; telephone number (202) 385-7705; Fax: (202) 385-7701; e-mail: debi.bacon@faa.gov.

SUPPLEMENTARY INFORMATION:

History

In 1999, the FAA established an Aviation Weather Technology Transfer (AWTT) Board to manage the orderly transfer of weather capabilities and products from research and development (R&D) into operations. The Director of the National Airspace (NAS) Weather Office, Operations Planning, Air Traffic Organization chairs the AWTT Board. The board is composed of stakeholders in the Air Traffic and Aviation Safety organizations in the Federal Aviation Administration and the Office of Climate, Water and Weather Services, the Office of Science and Technology, and the National Center for Environmental Predictions (NCEP) in the National Weather Service.

The AWTT Board meets semi-annually or as needed, to determine the readiness of weather R&D products for experimental use, full operational use for meteorologists or full operational use for end users. The board makes the determination based on technical and operational readiness, cost and benefits, user needs and budget considerations.

FAA has the sole responsibility and authority to make decisions intended to provide a safe, secure, and efficient U.S. national airspace system. However, it behooves FAA to not make decisions in a vacuum. Rather, FAA is seeking inputs from the user community before decisions are finalized.

Industry users are invited to participate in one-day meetings about three times per year to give specific feedback to the Government. Meetings will be focused on a specific domain (e.g. terminal, enroute) or specific weather phenomena (e.g. turbulence, convection). Meetings will include a time for users to provide input on specific weather products and aviation weather roadmaps and to surface issues or concerns with those products. The meetings will also include information on program and policy updates and on-going research. The industry review sessions will be announced in the Federal Register and open to all interested parties.

This meeting in the industry session focused on in-flight icing products, roadmaps and research activities.

Meeting Procedures

(a) The meeting will be informal in nature and will be conducted by representatives of the FAA Headquarters.

(b) The meeting will be open to all persons on a space-available basis. Every effort was made to provide a meeting site with sufficient seating capacity for the expected participation. There will be neither admission fee nor other charge to attend and participate. Attendees must present themselves to the security guard at the Northrop Grumman office, 475 School Street, SW., Washington, DC 20024 to obtain a visitor pass and adhere to security instructions for the Northrop Grumman facility.

(c) FAA personnel will conduct overview briefings on the user input process, weather products, aviation weather roadmaps and programs and policies. Research leads from the inflight icing product development team will conduct an overview briefing on the status of research efforts in the icing domain. Questions may be asked during the presentation and FAA personnel will clarify any part of the process that is not clear.

(d) FAA personnel will lead a session intended to elicit user views on the inflight icing products and any issues surrounding those products. Any person present may offer comment or feedback in the session. Comments and feedback will be captured through discussion between FAA personnel and those persons attending the meeting.

(e) FAA will not take any action items from this meeting nor make any commitments to accept specific user suggestions. An official verbatim transcript of the meeting will not be made. However, a list of the attendees and a digest of discussions during the meeting will be produced and posted on a web site Instructions to access the web site will be provide to all persons attending the meeting and provided to any who desire it.

(f) Every reasonable effort will be made to hear each person's feedback consistent with a reasonable closing time for the meeting. Written feedback is also solicited and may be submitted to FAA personnel for the period July 14—August 13, 2005.

Agenda

(a) Opening Remarks.

(b) Review of AWTT weather products, roadmaps and research efforts.

(c) Inflight icing Products and Issues Session.

(d) Closing Comments.

* * * * *

Issued in Washington, DC, on June 20, 2005.
Richard J. Heuwinkel,
Manager, Aviation Weather Policy and Standards.

[FR Doc. 05-12558 Filed 6-23-05; 8:45 am]

BILLING CODE 4910-13-M